DEPARTMENT OF COMMERCE

National Oceanic and Atmospheric Administration

50 CFR Part 635

[I.D. 061101A]

Atlantic Highly Migratory Species (HMS) Fisheries; Large Coastal, Pelagic, and Small Coastal Shark Species

AGENCY: National Marine Fisheries Service (NMFS), National Oceanic and Atmospheric Administration (NOAA), Commerce.

ACTION: Fishing season notification.

SUMMARY: NMFS notifies eligible participants of the opening and closing of fishing seasons for Atlantic large coastal sharks (LCS), small coastal sharks (SCS), pelagic sharks, blue sharks, and porbeagle sharks.

DATES: The fishery opening for LCS is effective July 1, 2001; the LCS closure is effective from 11:30 p.m. local time August 31, 2001, through December 31, 2001. The available quota for SCS, pelagic sharks, blue sharks, and porbeagles sharks is effective July 1, 2001, through December 31, 2001, unless otherwise modified or superseded through notification in the Federal Register.

FOR FURTHER INFORMATION CONTACT: Karyl Brewster-Geisz, 301-713-2347; fax 301-713-1917.

SUPPLEMENTARY INFORMATION: The Atlantic shark fishery is managed under the Fishery Management Plan for Atlantic Tunas, Swordfish, and Sharks (HMS FMP), and its implementing regulations found at 50 CFR part 635 issued under authority of the Magnuson-Stevens Fishery Conservation and Management Act (16 U.S.C. 1801 et seq.).

Since 1997, NMFS has been involved in litigation with Southern Offshore Fishing Association (SOFA) and other commercial fishermen and dealers regarding the commercial regulations for the Atlantic shark fishery. NMFS and plaintiffs reached settlement in this litigation, and the United States District Court for the Middle District of Florida Tampa Division stipulated to this agreement in December 2000. On March 6, 2001, NMFS published an emergency rule implementing the 1997 LCS and SCS quotas and catch accounting/monitoring procedures consistent with the settlement agreement (66 FR 13441).

Additionally, the settlement agreement required NMFS to obtain an independent peer review of the 1998 LCS stock assessment. As of June 19, 2001, the reviews were not complete. Thus, based on the terms of the settlement agreement, the annual quotas for LCS and SCS will remain at the 1997 levels of 1,285 metric tons (mt) dressed weight (dw) and 1,760 mt dw, respectively. Also, per the settlement agreement, NMFS has implemented the 1999 HMS FMP annual quota levels for pelagic, blue, and porbeagle sharks of 488 mt dw, 273 mt dw, and 92 mt dw, respectively (66 FR 55; January 2, 2001).

Of the 642.5 mt dw available for the first semiannual LCS season, 587.5 mt dw was taken. NMFS is adding the remaining 55 mt dw to the available quota for the second semiannual 2001 fishing season. Although the settlement agreement did not include a specific procedure for a quota underharvest, such carryover to the next semiannual season was stipulated for any overharvest. Thus, this carryover of underharvest is consistent with the procedure outlined in the December 2000 settlement agreement entered into by NMFS and plaintiffs from the fishing industry. As such, the LCS quota for the 2001 second semiannual season is 697 mt dw. The SCS second semiannual quota for 2001 will remain at the 1997 level of 880 mt dw. The second 2001 semiannual quotas for pelagic, blue, and porbeagle sharks will be 244 mt dw, 136.5 mt dw, and 46 mt dw, respectively.

The prohibited species provisions will be enforced. A list of prohibited shark species can be found in Table 1 of Appendix A to part 635, subpart D. The limited access provisions for commercial harvests still apply, including trip limits for directed and incidental shark permit holders.

The second semiannual fishing season of the 2001 fishing year for the commercial fishery for LCS in the western north Atlantic Ocean, including the Gulf of Mexico and the Caribbean Sea, will open July 1, 2001. To estimate the closure dates of the LCS, NMFS used the average daily catch rates for each species group from the second seasons from the years 1998, 1999, and 2000 while also considering the reporting dates of permitted shark dealers. The 1998 and 2000 data indicate that over 60 percent of the available quota could be taken by the end of July and 70 to 90 percent of the available quota could be taken within the first 2 weeks of August. In 1999, the second semiannual season was closed at the end of July and re-opened in September. Thus, 1999 catch rate data for August is not available and NMFS does not feel it appropriate at this time to use the catch rates from September and October to estimate a possible closure in August. July 1999 data indicate that only 30 percent of the available quota could be taken. However, NMFS was implementing limited access for the Atlantic shark and swordfish fisheries in July of 1999 and many fishermen, who would normally fish, may not have had the correct permits at that time. Accordingly, the Acting Assistant Administrator for Fisheries (AA) has determined that the LCS quota for the second 2001 semiannual season will likely be attained by August 31, 2001. Thus, the LCS fishery will close August 31, 2001, at 11:30 p.m. local time.

During a closure, retention of, fishing for, possessing or selling LCS are prohibited for persons fishing aboard vessels issued a limited access permit under 50 CFR 635.4. The sale, purchase, trade, or barter of carcasses and/or fins of LCS harvested by a person aboard a vessel that has been issued a permit under 50 CFR 635.4 are prohibited, except for those that were harvested, offloaded, and sold, traded, or bartered prior to the closure and were held in storage by a dealer or processor.

When quotas are projected to be reached for the SCS, pelagic, blue, or porbeagle shark fisheries, the AA will file notification of closure at the Office of the Federal Register at least 14 days before the effective date.

Those vessels that have not been issued a limited access permit under 50 CFR 635.4 may not sell sharks and are subject to the recreational size limits and retention limits specified at 50 CFR 635.20(e) and 635.22(c), respectively. The recreational fishery is not affected by any closure in the commercial fishery.

Classification

This action is taken under 50 CFR part 635 and is exempt from review under Executive Order 12866.

Authority: 16 U.S.C. 1801 et seq.

Dated: June 19, 2001.
Bruce C. Morehead,
Acting Director, Office of Sustainable Fisheries, National Marine Fisheries Service.

[FR Doc. 01-15872 Filed 6-21-01; 5:03 pm]

BILLING CODE 3510-22-S